DEPARTMENT OF JUSTICE

Notice of Lodging of Consent Decree Under the Clean Water Act

Consistent with 28 CFR 50.7, notice is hereby given that on August 3, 2005, a proposed consent decree (“decree”) in United States v. Degussa Initiators, LLC., Civil Action No. 1:05CV1915, was lodged with the United States District Court for the Northern District of Ohio.

In this action, the United States seeks civil penalties against Degussa for violations of section 307(d) and 308 of the Clean Water Act, 33 U.S.C. 1317(d) and 1318, including violation of categorical and local effluent limits contained in industrial user permits issued by the Elyria, Ohio publicly owned treatment works. The proposed decree provides that Degussa will pay a civil penalty of $345,203.50 and will perform a supplemental environmental project valued at $27,514. Degussa also certifies in the proposed decree that it has implemented corrective measures necessary to ensure continuous compliance with applicable effluent limits and other permit terms.

The Department of Justice will receive comments relating to the decree for a period of thirty (30) days from the date of this publication. Comments should be addressed to the Assistant Attorney General, Environment and Natural Resources Division, P.O. Box 7611, Ben Franklin Station, U.S. Department of Justice, Washington, DC 20044-7611, and should refer to United States v. Degussa LLC, D.J. Ref. 90-5-1-1-07956.

The decree may be examined at the Office of the United States Attorney, 1800 One Bank Center, 600 Superior Avenue, Cleveland, Ohio 44114-2654 and at the U.S. Environmental Protection Agency Region 5, 77 West Jackson Boulevard, Chicago, Illinois 60604-3590. During the public comment period, the decree may also be examined on the following Department of Justice Web site, http://www.usdoj.gov/enrd/open.html. A copy of the decree may also be obtained by mail from the Consent Decree Library, P.O. Box 7611, Ben Franklin Station, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost), payable to the U.S. Treasury.

W. Benjamin Fisherow,
Deputy Section Chief, Environmental Enforcement Section, Environment and Natural Resources Division.

[FR Doc. 05-16346 Filed 8-17-05; 8:45 am]

BILLING CODE 4410-15-M